DEPARTMENT OF HOMELAND SECURITY

Federal Emergency Management Agency

[Docket ID: FEMA-2017-0013; OMB No. 1660-0072]

Agency Information Collection Activities: Proposed Collection; Comment Request; Mitigation Grant Programs/e-Grants

AGENCY: Federal Emergency Management Agency, DHS.

ACTION: Notice and request for comments.

SUMMARY: The Federal Emergency Management Agency, as part of its continuing effort to reduce paperwork and respondent burden, invites the general public and other Federal agencies to take this opportunity to comment on a reinstatement, without change, of a previously approved information collection for which approval has expired. In accordance with the Paperwork Reduction Act of 1995, this notice seeks comments concerning the collection of information necessary to implement grants for the Flood Mitigation Assistance (FMA) program and the Pre-Disaster Mitigation (PDM) program.

DATES: Comments must be submitted on or before October 18, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472, email address FEMA-Information-Collections-Management@fema.dhs.gov or Jennie Orenstein, Branch Chief, HMA Division—Grants Policy, (202) 212-4071.

SUPPLEMENTARY INFORMATION: The FMA program is authorized by Section 1366 of the National Flood Insurance Act of 1968, as amended, 42 U.S.C. 4104c. The FMA program, under 44 CFR part 79, provides funding for measures taken to reduce or eliminate the long-term risk of flood damage to buildings, manufactured homes, and other structures insured under the National Flood Insurance Program. The Biggert-Waters Flood Insurance Reform Act of 2012 (Pub. L. 112-141) eliminated the Repetitive Flood Claims (RFC) and Severe Repetitive Loss (SRL) programs, and made significant changes to the FMA program by consolidating the former RFC and SRL programs into FMA. Cost-share requirements were changed to allow more Federal funds for properties with repetitive flood claims.

The PDM program is authorized by Section 203 of the Robert T. Stafford Disaster Relief and Emergency Assistance Act, 42 U.S.C. 5133, as amended by Section 102 of the Disaster Mitigation Act of 2000, Public Law 106-390, 114 Stat. 1553. It provides grants for cost-effective mitigation actions prior to a disaster event to reduce overall risks to the population and structures, while also reducing reliance on funding from actual disaster declarations.

In accordance with OMB Circular A-102, FEMA requires that all parties interested in receiving FEMA mitigation grants submit an application package for grant assistance. Applications and sub-applications for the PDM and FMA programs are submitted via the e-Grants system. The e-Grants system was developed and updated to meet the intent of the e-Government initiative, authorized by Public Law 106-107. This initiative required that all government agencies both streamline grant application processes and provide for the means to electronically create, review, and submit a grant application via the Internet. Title 2 CFR 200.335, promulgated in 2013, encourages Federal awarding agencies and non-Federal entities to, whenever practicable, collect, transmit, and store Federal award-related information in open and machine readable formats rather than in closed formats or on paper.

This proposed information collection previously published in the Federal Register on May 9, 2017 at 82 FR 21548 with a 60-day public comment period. No public comments were received. This information collection expired on June 30, 2017. FEMA is requesting a reinstatement, without change, of a previously approved information collection for which approval has expired. Although FEMA initially proposed to revise this information collection by adding a new Quarterly Progress Report form, a new form is not necessary. The e-Grants system already collects information on the status of funded FMA/PDM mitigation activities on a quarterly basis after award. The information that is collected is limited to project status, work completed, number of properties acquired or relocated, and addresses of properties acquired or relocated during a given quarter. Therefore, FEMA is requesting a reinstatement of the collection without change. The purpose of this notice is to notify the public that FEMA will submit the information collection abstracted below to the Office of Management and Budget for review and clearance.

Collection of Information

Title: Mitigation Grant Programs/e-Grants.

Type of Information Collection: Reinstatement, without change, of a previously approved information collection for which approval has expired.

OMB Number: 1660-0072.

FEMA Forms: None.

Abstract: FEMA's Flood Mitigation Assistance and Pre-Disaster Mitigation programs utilize an automated grant application and management system called e-Grants. These grant programs provide funding for the purpose of reducing or eliminating the risks to life and property from hazards. The e-Grants system includes all of the application information needed to apply for funding under these grant programs.

Affected Public: State, Local and Tribal Government.

Estimated Number of Respondents: 56.

Estimated Number of Responses: 4,312.

Estimated Total Annual Burden Hours: 18,788.

Estimated Total Annual Respondent Cost: $927,939.

Estimated Respondents' Operation and Maintenance Costs: None.

Estimated Respondents' Capital and Start-Up Costs: None.

Estimated Total Annual Cost to the Federal Government: $6,598,456.16.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: September 11, 2017.
Tammi Hines,
Acting Records Management Program Chief, Mission Support, Federal Emergency Management Agency, Department of Homeland Security.

[FR Doc. 2017-19790 Filed 9-15-17; 8:45 am]

BILLING CODE 9111-52-P